SMALL BUSINESS ADMINISTRATION

13 CFR Parts 121 and 123

RIN 3245-AF41

Small Business Size Standards: Inflation Adjustment to Size Standards, Business Loan Program, and Disaster Assistance Loan Program

AGENCY: U.S. Small Business Administration.

ACTION: Final rule.

SUMMARY: This rule finalizes the U.S. Small Business Administration's (SBA) December 6, 2005 interim final rule that amended monetary-based small business size standards for inflation. This rule adds an 8.7 percent increase to the inflation-adjusted size standards of the December 2005 interim final rule. This accounts for the inflation that has occurred since then. This rule also adopts the interim final rule's two-step process for determining eligibility for SBA's Business Loan and Economic Injury Disaster Loan (EIDL) Programs. Furthermore, the rule adopts the revised date that SBA uses to determine size status for purposes of EIDL applications for businesses located in declared disaster areas as a result of Hurricanes Katrina, Rita, and Wilma.

DATES: Effective Date: This rule is effective on August 18, 2008.

FOR FURTHER INFORMATION CONTACT: Carl Jordan, Office of Size Standards, (202) 205-6618 or sizestandards@sba.gov.

SUPPLEMENTARY INFORMATION:

Inflation Adjustment

On December 6, 2005, SBA increased by 8.7% most of its monetary-based small business size standards (e.g., receipts, net income, net worth, and financial assets) for the effects of inflation that had occurred since the time of the previous adjustment in February 2002 (70 FR 72577). Since then, the U.S. economy has experienced additional inflation, due in part to significant increases in the price of crude oil. Because of the rapid rate of increasing inflation and the important policy objective of maintaining the value of size standards in inflation-adjusted terms, SBA is further adjusting the size standards implemented in the 2005 interim final rule. In all, this rule increases size standards since February 2002 by 18.2 percent, that is, by an additional 8.7 percent over the 8.7 percent increase in the 2005 interim final rule (1.087 × 1.087 = 1.182, or 18.2 percent). This additional increase ensures that size standards are up-to-date for determining small business status and restores the eligibility of businesses that may have lost their small business status due solely to price level increases rather than from increases in business activity.

The December 6, 2005 interim final rule increased SBA's most common size standard for the retail trade and services industries (referred to as the “nonmanufacturer anchor size standard”) from $6.0 million in average annual receipts to $6.5 million. This rule further increases the nonmanufacturer anchor size standard to $7.0 million. This rule also increases other monetary-based size standards proportionately. For example, the interim final rule increased the size standard for Computer Systems Design Services (NAICS 541512) from $21 million to $23 million. This rule increases that industry's size standard to $25.0 million.

The revisions adopted by this final rule demonstrate that SBA must stay abreast of changes in the economy to ensure that size standards are established at appropriate levels. To meet that objective, SBA is conducting a comprehensive review of all of its small business size standards over a 2-year period. This review will consist of a series of proposed rules beginning in 2008 examining industries within a specific NAICS Industry Sector. SBA expects that, as a result of this comprehensive review, it will propose in the future additional revisions to certain size standards based on its evaluation of industry data.

How SBA Adjusts Small Business Size Standards for Inflation

For purposes of this final rule, SBA uses the same methodology as used in the 2005 interim final rule, but applies the most current inflation statistics available. The methodology is described below:

1. Select a measure of inflation. SBA uses the chain-type price index for the Gross Domestic Product (GDP), a broad measure of inflation for the economy as a whole. The U.S. Department of Commerce, Bureau of Economic Analysis (BEA), publishes this index quarterly in its National Income and Product Accounts publications (Table 1.1.4, Line 1).

2. Select base period. For this rule, SBA selects the third quarter of 2001 as the base period—the end period used for the February 2002 adjustment. Since this is a final rule to the interim final rule, it is more accurate to use the same starting period as for the December 2005 adjustment than the end period of the interim final rule in order to make correct rounding adjustments. The chain-type price index for the GDP for the third quarter of 2001 was 102.690.

3. Select end period. SBA selects the first quarter of 2008 as the end period for this inflation adjustment because it is the latest available quarterly data that BEA has published. The chain type price index for GDP then stood at 121.363.

4. Calculate the total rate of inflation. Based on the price indexes, inflation increased 18.2 percent from the base to the end per iods ((121.363 ÷ 102.690) − 1.00) × 100 percent = 18.2 percent).

5. Apply the adjustment to the monetary-based size standards. Multiply the size standards in effect prior to the interim final rule by 1.182, and round to the closest $0.5 million.

Special Situations Regarding Inflation Adjustment

1. Small Business Investment Company (SBIC) Program: Certain monetary-based size standards are not changed in this rule. Specifically, the size standards for agricultural industries and for “smaller enterprises” under the SBIC Program are set by statute and, therefore, cannot be changed through rulemaking. As with the 2005 interim final rule, SBA has elected not to change the SBIC Program's small business alternate net worth and net income size standards. SBA increased the alternate net worth and net income size standards for the SBIC Program in 1994 threefold. Although inflation has increased since that time, SBA continues to believe that the SBIC size standard levels are sufficient to accomplish its program objectives. SBA received no comments on these size standards. Therefore, SBA is allowing the existing size standards to remain in place for the SBIC Program because no further increase is necessary at this time.

2. Size Standards Adjusted Between 2002-2005: As stated in the 2005 interim final rule, the Agency has changed a number of monetary-based size standards since the February 2002 inflation adjustment as a result of an in-depth review of industry characteristics. SBA is applying the full inflation adjustment percent to those monetary-based size standards as well. When SBA establishes or revises a size standard, it does so in relation to other existing size standards to ensure that industries with similar characteristics have similar size standards. To provide a smaller inflation adjustment due to the shorter time period for the calculation, while technically precise, would be inconsistent with the size standards decision-making process, and would in essence nullify part of the industry specific adjustments made between 2002-2005 period.

3. Size Standards Adjusted After 2005: Since the time of the interim final rule SBA revised the size standard for the Security Guards and Patrol Services industry (NAICS 561612) from $11.5 million in average annual receipts to $17 million. This revision was based on an in-depth review of the economic characteristics of businesses in that industry (71 FR 37490, June 30, 2006). SBA had proposed $15.5 million (70 FR 68368, November 10, 2005), but adjusted the proposed size standard in the June 30, 2006, final rule to account for the December 6, 2005, inflation adjustment. As with that final rule, this inflation final rule will adjust the Security Guards and Patrol Services industry size standard to account for the additional inflation. Applying 18.2 percent inflation to the $15.5 million size standard proposed in 2005 results in a new size standard of $18.5 million ($15,500,000 x 1.182 = $18,321,000, rounded to the nearest $500,000 increment, or $18,500,000).

4. Program-Based Size Standards: Most SBA programs apply size standards established for industries defined by the North American Industry Classification System (NAICS). SBA has also established size standards on a program basis rather than an industry basis. These size standards are adjusted in the same manner as the industry-based size standards (except for the SBIC Program as discussed above). Table 1 lists the program-based size standards and the changes adopted by this rule.

Table 1.—Program Size Standards
Program | CFR citation | Size standard in millions of dollars: Base period size standard | Size standard in millions of dollars: Measurement | Size standard in millions of dollars: Inflation-adjusted size standard
504 Program | 13 CFR 121.301(b) | $7.0 2.5 | Net Worth; Net Income | $8.5 3.0
Surety Bond Guarantee Assistance | 13 CFR 121.301(d) | 6.0 | Average Annual Receipts | 7.0
Sales of Government Property Other Than Manufacturing (which uses employee-based size standards) | 13 CFR 121.502 | 6.0 | Average Annual Receipts | 7.0
Stockpile Purchases | 13 CFR 121.512 | 48.5 | Average Annual Receipts | 57.5

Summary of Public Comments on the December 6, 2005 Interim Final Rule

The December 6, 2005, interim final rule requested comments from the public, and SBA received 11 comments. Two of the commenters discussed issues unrelated to increasing size standards for inflation. The other nine commenters supported the increase.

Three commenters, while they supported the increase, also indicated that the increase was not sufficient for a number of industries. One suggested that SBA use a different inflation index instead of the chain type price index for GDP. The commenter believes that this price index understates inflation. Alternatively, the commenter recommended that SBA increase size standards based on the degree to which employee compensation has increased. The two other commenters also contended that other factors, such as health benefit costs and costs unique to the waste collection industry, have caused their industries to experience higher rates of inflation than measured by the chain type price index for GDP.

SBA recognizes that inflation may not affect every industry equally at the same time. SBA's small business size standards apply to a wide variety of Federal Government programs and to businesses engaged in multiple industries. Therefore, SBA must use a broad measure of inflation for the entire U.S. economy to determine the most appropriate rate of inflation by which to adjust all of its monetary-based size standards.

Over the past several years, Federal statistical agencies, such as the U.S. Bureau of Labor Statistics, have developed new price indexes that may be more suitable for adjusting size standards for industries with monetary-based size standard. SBA will give consideration to the viability of those alternative inflation indexes in the future.

SBA also believes that industry specific circumstances should be evaluated through an in-depth industry review. As mentioned above, SBA is conducting a comprehensive size standards review over the next 2 years. In doing so, above average inflationary pressures within an industry are likely to be captured. As in previous size standards adjustments, the public will have an opportunity to comment and provide SBA with probative data demonstrating the need for an additional adjustment.

Determining Size Eligibility for SBA Business Loans and Economic Injury Disaster Loans

SBA is adopting, without change, the revised two-step process for determining small business eligibility under its Business Loan and EIDL Programs established in the interim final rule. This provision determines size eligibility by the following steps:

1. Determine the primary industry and size of the applicant alone (i.e., without affiliates).

a. If the applicant alone does not meet the size standard for its industry, it is ineligible.

b. If the applicant alone meets the size standard for its industry, and if it has affiliates, then this triggers the second step.

2. Determine the primary industry and size of the applicant and all of its affiliates. If the applicant, together with its affiliates, does not exceed either (1) the size standard for the applicant's primary industry or (2) the size standard for the primary industry of the applicant and its affiliates combined, whichever is the higher, the applicant is eligible.

SBA's experience with the two-step process for the financial related programs has demonstrated that it remedies the problems encountered with the previous regulation of determining small business eligibility by applying only the size standard applicable to the primary industry of the applicant. Furthermore, SBA received no public comments opposing this change or recommending a different approach.

Determining the Size Status of Businesses Affected by the Hurricanes on the Date SBA Accepts EIDL Applications From Those Businesses

SBA is also adopting as final the revision of the 2005 interim final rule pertaining to the date when size status is determined for purposes of EIDL applications submitted by businesses located in disaster areas declared as a result of Hurricanes Katrina, Rita, and Wilma (2005 Hurricanes). Current regulations at 13 CFR § 123.300(b) require an applicant for an EIDL loan to be small as of the date the disaster commenced, as set forth in the disaster declaration. For purposes of EIDL applications in response to the 2005 Hurricanes, however, SBA had changed the date on which SBA determines size status of those businesses to “the date SBA accepts the application for processing.” This amendment has provided access to SBA's EIDL Program for business that would have been otherwise ineligible based on the size standards in effect at the time of 2005 Hurricanes but eligible under the inflation adjusted size standards that took effect within several months after these disasters. SBA received only one comment on this provision, which fully supported this change.

Compliance With Executive Orders 12866, 12988, and 13132, the Regulatory Flexibility Act (5 U.S.C. 601-612) and the Paperwork Reduction Act (44 U.S.C. Ch. 35)

The Office of Management and Budget (OMB) has determined that this rule is a significant regulatory action under section 3(f) of Executive Order 12866. A general discussion of the need for this regulatory action and its potential costs and benefits follows.

1. Is there a need for the regulatory action?

SBA's statutory mission is to aid and assist small businesses through a variety of financial, procurement, business development, and advocacy programs. To assist effectively the intended beneficiaries of these programs, SBA must establish distinct definitions of which businesses are deemed small businesses. The Small Business Act (15 U.S.C. 632(a)) (Act) delegates to the SBA Administrator the responsibility for establishing small business definitions. The Act also requires that small business definitions vary to reflect industry differences. The supplementary information to this final rule explains the approach SBA follows when adjusting size standards for inflation. Based on the rise in the general level of prices, SBA believes that an inflation adjustment to size standards is needed to reflect small businesses in industries with monetary-based size standards.

2. What are the potential benefits and costs of this regulatory action?

The benefits of increasing size standards to a more appropriate level will accrue to three groups: (1) Businesses that gain or regain small business status from the higher size standards and use small business assistance programs; (2) growing small businesses that may exceed the existing size standards in the near future; and (3) Federal agencies that award contracts under procurement programs that require small business status.

The most significant benefit to businesses obtaining small business status because of this rule is eligibility for Federal small business assistance programs. Approximately 10,400 firms will gain small business status and become eligible for these programs, and for most cases regain their small business status. We note that the interim final rule estimated 11,600 affected businesses. This rule estimates the number of businesses affected by the additional increase to the size standards and essentially comprises a sub-group of the 11,600 businesses since the real value of the size standards has decreased since the time of the interim final rule. That is, many of the businesses gaining small business status as a result of the interim final rule have over time lost small business status because of the additional inflation since December 2005. These businesses account for 0.8 percent of total sales in the adjusted industries. They will benefit from SBA's financial assistance programs, economic injury disaster loans and from Federal procurement programs for small businesses. These include 8(a) firms, small disadvantaged businesses, small businesses located in Historically Underutilized Business Zones (HUBZone), women-owned small businesses, veteran-owned small businesses, and service-disabled veteran-owned small businesses (SBVO SBCs). Also, on Federal contracts awarded through full and open competition, they can benefit after application of the HUBZone or small disadvantaged business price evaluation preference. These programs assist small businesses to become more knowledgeable, stable and competitive business.

SBA estimates that approximately $550 million in Federal prime contracts could be awarded to businesses becoming re-designated as small businesses under this rule. In fiscal years 2005-2006 (the latest fiscal year data available), small businesses averaged $46.8 billion per year out of $184.9 billion in Federal prime contracts in industries with monetary-based size standards. This estimate assumes that half of the re-defined small businesses participate in Federal contracting and they could obtain the same proportion of their industry share (one-half of 0.8 percent) of the remaining large business Federal contract awards (($184.9 billion − $46.8 billion = $138.8 billion) × 0.004 = $0.552 billion).

SBA views the additional amount of projected contract activity as the potential amount of transfer from non-small to re-designated small businesses. This does not represent the creation of new contracting activity by the Federal Government, merely a possible transfer or reallocation to different sized businesses.

Under the SBA's 7(a) Guaranteed Loan Program, SBA estimates that approximately $73 million in new Federal loan guarantees could be made to these re-defined small businesses. In fiscal year 2007, small businesses in industries with monetary-based size standards received $12.1 billion in loan guarantees under the 7(a) loan program. Most of the re-defined small businesses have 50 or more employees. SBA guaranteed 937 loans worth $413 million to small businesses with 50 or more employees. Based on the Census Bureau data, only about 1.6 percent of businesses within the size range of the re-defined small businesses participate in the 7(a) loan program. Assuming this level of participation, 166 additional loans could be guaranteed to the re-defined small businesses (10,400 × 0.016 = 166). The value of these loans is estimated by multiplying the average size loan to small businesses with 50 or more employees, which is $441,000, by the number of additional loans ($441,000 × 166 = $73,206,000).

The re-defined small businesses will also benefit from SBA's EIDL Program. Because this program is contingent on the occurrence and severity of disasters, SBA cannot make a meaningful estimate of benefits to victims of future disasters.

To the extent that up to 10,400 additional firms could become active in Federal small business programs, this may entail some additional administrative costs to the Federal Government. There will be more businesses eligible to enroll in the Central Contractor Registration (CCR) and to be verified for listing in the CCR's Dynamic Small Business Search database. There likely will be more bidders on Federal procurement opportunities reserved for small businesses. Among businesses in this group seeking SBA assistance, there could be some additional costs associated with compliance and verification of small business status and protests of small business status. These costs are likely to generate minimal incremental administrative costs because processes are in place to handle these administrative requirements.

The costs to the Federal Government may be higher on some Federal contracts. With a greater number of businesses defined as small, Federal agencies may be required or choose to set aside more contracts for competition among small businesses rather than using full and open competition. The movement from unrestricted to set-aside contracting is likely to result in competition among fewer bidders. In addition, higher costs may result if additional full and open contracts are awarded to HUBZone businesses because of a price evaluation preference. However, any additional costs associated with fewer bidders would likely be minor since, as a matter of policy, procurements are required or may be set aside for small businesses or reserved for the 8(a), SDVO, or HUBZone Programs only if awards are expected to be made at fair and reasonable prices.

Moreover, with a small amount of estimated lending to the re-defined small businesses as discussed above, it is unlikely that currently-defined small businesses will be denied SBA financial assistance due to an increased pool of eligible small businesses. These additional loan guarantees estimated at $73 million will have little impact on the overall availability of loans for SBA's 7(a) Business Loan Program, which amounted to more than $20 billion in fiscal year 2007.

The revision to the current monetary-based size standard is consistent with SBA's statutory mandate to assist small businesses. This regulatory action promotes the Administration's objectives. One of SBA's goals in support of the Administration's objectives is to help individual small businesses succeed through access to capital and credit, government contracts, and management and technical assistance. Reviewing and modifying size standards where appropriate, including periodic inflation adjustments, ensures that intended beneficiaries have access to small business programs designed to assist them. Size standards do not interfere with State, local, and tribal governments in the exercise of their government functions. In a few cases, state and local governments have voluntarily adopted SBA's size standards for their programs to eliminate the need to establish an administrative mechanism to develop their own size standards.

Executive Order 12988

For purposes of Executive Order 12988, SBA has drafted this rule, to the extent practicable, in accordance with the standards set forth in section 3 of that Order.

Executive Order 13132

This regulation will not have substantial direct effects on the States, on the relationship between the national government and the States, or on the distribution of power and responsibility among the various levels of government. Therefore, under Executive Order 13132, SBA determines that this rule does not have sufficient federalism implications to warrant the preparation of a federalism assessment.

Paperwork Reduction Act

SBA has determined that this rule does not impose any new information collection requirements from SBA that require approval by OMB under the Paperwork Reduction Act of 1980, 44 U.S.C. Ch. 35.

Final Regulatory Flexibility Analysis

Under the Regulatory Flexibility Act (RFA), this rule may have a significant impact on a substantial number of small entities. Immediately below, SBA sets forth a final regulatory flexibility analysis (FRFA). The FRFA addresses the reasons for promulgating the rule; the objectives of this rule; SBA's descriptions and estimate of the number of small entities to which the rule will apply; the projected reporting record-keeping and other compliance requirements of the rule; the relevant Federal rules which may duplicate, overlap or conflict with the rule; and alternatives considered by SBA.

1. What is the reason for this action?

As discussed in the supplemental information, the purpose of this rule is to restore the small business eligibility of businesses that have grown above the size standard due to inflation rather than due to increased business activity. A review of the latest inflation indexes indicates that inflation has increased a sufficient amount to warrant an increase to the current monetary-based size standards.

2. What are the objectives and legal basis for the rule?

The revision to the monetary-based size standards for inflation more appropriately defines the size of businesses. This rule merely restores small business eligibility in real terms. Section 3(a) of the Small Business Act (15 U.S.C. 632(a)) gives SBA the authority to establish and change size standards. Within its administrative discretion, SBA implemented a policy in its regulations to review the effect of inflation on size standards at least once every five years (13 CFR 121.102(c)) and make any changes as appropriate. As discussed in the supplementary information, inflation has increases at a sufficient level since the time of the interim final rule to warrant a further adjustment to size standards at this time rather than to re-assess the impact of inflation on size standards 5 years after the time of the interim final rule.

3. What are SBA's description and estimate of the number of small entities to which the rule will apply?

The rule will apply to all businesses seeking benefits or preferences under Federal Government programs. These new size standards allow more businesses to be eligible for these programs. These programs are primarily in Federal Government procurement, such as small business set-asides, 8(a), SDB, HUBZone, and SDVO SBCs. SBA anticipates that about 10,400 additional businesses could be eligible to participate in Federal Government programs. This could increase competition among the current pool of small business concerns. However, it will also allow those businesses, now above the current size standards because of inflation and that can compete only on free and open procurements, to return to competing with other small businesses.

4. Summary of significant issues raised by the public in response to the Initial Regulatory Flexibility Analysis in the December 6, 2005 Interim Final Rule

The public raised no significant issues in response to the Initial Regulatory Flexibility Analysis in the December 6, 2005 interim final rule. There were 11 commenters to the interim final rule, two of whom did not comment on the issues raised. The other nine commenters supported the rule. SBA has summarized the comments above in the supplemental information.

5. Will this rule impose any additional reporting or recordkeeping requirements on small business entities?

This rule does not impose any new information collection requirements under the Paperwork Reduction Act of 1980, 44 U.S.C. Ch. 35. A new size standard does not impose any additional reporting, recordkeeping or compliance requirements on small entities. Increasing size standards expands access to SBA programs that assist small businesses, but does not impose a regulatory burden because small business size standards neither regulate nor control business behavior.

Section 212 of Small Business Regulatory Fairness Act (Pub. L. 104-121) requires an agency to publish one or more “small entity compliance guides” to assist small entities in complying with its rules. Although there are no new compliance requirements associated with small business size standards, there may be some small businesses not acquainted with small business size standards and their application to Federal procurement and other Federal Government programs. Therefore, SBA has published both its “Small Business Size Regulations” and its “Guide to Size Standards” to provide this assistance. Both of these are available on SBA's Web site at http://www.sba.gov/size by selecting on the right hand side of the page “Size Regulations” and “Guide to Size Standards.”

6. What are the relevant Federal rules that may duplicate, overlap or conflict with this rule?

This rule does not overlap with other Federal rules that use SBA's size standards to define a small business. Under Section 3(a)(2)(C) of the Small Business Act, 15 U.S.C. 632(a)(2)(c), unless specifically authorized by statute, Federal agencies must use SBA's size standards to define a small business. In 1995, SBA published in the Federal Register a list of statutory and regulatory size standards that identified the application of SBA's size standards as well as other size standards used by Federal agencies (60 FR 57988-57991, dated November 24, 1995). SBA is not aware of any Federal rule that would duplicate or conflict with establishing size standards.

Other Federal agencies also may use SBA size standards for a variety of regulatory and program purposes. If such a case exists where an SBA size standard is not appropriate, an agency may establish its own size standards with the approval of the SBA Administrator (see 13 CFR 121.902-903). For purposes of a regulatory flexibility analysis, agencies must consult with SBA's Office of Advocacy when developing size standards for its programs. (13 CFR 121.903(c)).

7. What alternatives did SBA consider?

Because all relevant comments supported increasing size standards for inflation, SBA's only other consideration was whether to adopt the size standards presented in the interim final rule with no further increase for the inflation. However, SBA believes that the additional 7.7 percent inflation that has occurred since the time of the interim final rule sufficiently effects the real value of the size standards to warrant applying an additional increase at this time. Otherwise, the benefits achieved by the December 6, 2005 adjustment would essentially be lost and not restored in a timely manner.

List of Subjects

13 CFR Part 121

Administrative practice and procedure, Government procurement, Government property, Grant programs—business, Individuals with disabilities, Loan programs—business, Reporting and recordkeeping requirements, Small businesses.

13 CFR Part 123

Disaster assistance, Loan programs—business, Reporting and recordkeeping requirements, Small Businesses, Terrorism.

For the reasons set forth in the preamble, SBA amends 13 CFR Parts 121 and 123 as follows:

PART 121—SMALL BUSINESS SIZE REGULATIONS

1. The authority citation for part 121 continues to read as follows:

Authority: 15 U.S.C. 632, 634(b)(6), 636(b), 637(a), 644, 657(a), 657(f), and 662(5); and Pub. L. 105-135, Sec. 401, et seq., 111 Stat, 2592.

2. Amend the table in § 121.201 as follows:

A. Revise entries 112310, 113110, and 113210;

B. Revise Subsector 115;

C. Revise entries 213112 through 213115;

D. Revise entries 221310, 221320, and 221330;

E. Revise Sector 23;

F. Revise Sector 44-45;

G. Revise entries 481211, 481212, and 481219;

H. Revise Subsectors 484 and 485;

I. Revise entries 486210 and 486990;

J. Revise Subsectors 487, 488, and 491;

K. Revise entry 492210;

L. Revise Subsector 493;

M. Revise entries 511210 through 512290;

N. Revise Subsector 515;

O. Revise entries 517410 and 517919;

P. Revise Subsector 518;

Q. Revise entries 519110, 519120, and 519190;

R. Revise Subsector 522 and 523;

S. Revise entries 524113 through 524114, and 524127 through 524298;

T. Revise Subsectors 525, 531, 532 and 533;

U. Revise entries 541110 through 541690;

V. Revise entries 541720 through 541990;

W. Revise Sectors 55, 56, 61, 62, 71, 72, and 81; and,

X. Revise footnotes 9 and 15.

§ 121.201 What size standards has SBA identified by North American Industry Classification System codes?

Small Business Size Standards by NAICS Industry
NAICS codes | NAICS U.S. industry title | Size standards in millions of dollars | Size standards in number of employees
Sector 11—Agriculture, Forestry, Fishing and Hunting
* * * * * * *
Subsector 112—Animal Production
* * * * * * *
112310 | Chicken Egg Production | $12.5 |
* * * * * * *
Subsector 113—Forestry and Logging
113110 | Timber Tract Operations | $7.0 |
113210 | Forest Nurseries and Gathering of Forest Products | $7.0 |
* * * * * * *
Subsector 114—Fishing, Hunting and Trapping
114111 | Finfish Fishing | $4.0 |
114112 | Shellfish Fishing | $4.0 |
114119 | Other Marine Fishing | $4.0 |
114210 | Hunting and Trapping | $4.0 |
Subsector 115—Support Activities for Agriculture and Forestry
115111 | Cotton Ginning | $7.0 |
115112 | Soil Preparation, Planting, and Cultivating | $7.0 |
115113 | Crop Harvesting, Primarily by Machine | $7.0 |
115114 | Postharvest Crop Activities (except Cotton Ginning) | $7.0 |
115115 | Farm Labor Contractors and Crew Leaders | $7.0 |
115116 | Farm Management Services | $7.0 |
115210 | Support Activities for Animal Production | $7.0 |
115310 | Support Activities for Forestry | $7.0 |
Except, | Forest Fire Suppression ¹⁷ | ¹⁷ $17.5 |
Except, | Fuels Management Services ¹⁷ | ¹⁷ $17.5 |
Sector 21—Mining, Quarrying, and Oil and Gas Extraction
* * * * * * *
Subsector 213—Support Activities for Mining
* * * * * * *
213112 | Support Activities for Oil and Gas Operations | $7.0 |
213113 | Support Activities for Coal Mining | $7.0 |
213114 | Support Activities for Metal Mining | $7.0 |
213115 | Support Activities for Nonmetallic Minerals (except Fuels) | $7.0 |
Sector 22—Utilities
Subsector 221—Utilities
* * * * * * *
221310 | Water Supply and Irrigation Systems | $7.0 |
221320 | Sewage Treatment Facilities | $7.0 |
221330 | Steam and Air-Conditioning Supply | $12.5 |
Sector 23—Construction
Subsector 236—Construction of Buildings
236115 | New Single-Family Housing Construction (except Operative Builders) | $33.5 |
236116 | New Multifamily Housing Construction (except Operative Builders) | $33.5 |
236117 | New Housing Operative Builders | $33.5 |
236118 | Residential Remodelers | $33.5 |
236210 | Industrial Building Construction | $33.5 |
236220 | Commercial and Institutional Building Construction | $33.5 |
Subsector 237—Heavy and Civil Engineering Construction
237110 | Water and Sewer Line and Related Structures Construction | $33.5 |
237120 | Oil and Gas Pipeline and Related Structures Construction | $33.5 |
237130 | Power and Communication Line and Related Structures Construction | $33.5 |
237210 | Land Subdivision | $7.0 |
237310 | Highway, Street, and Bridge Construction | $33.5 |
237990 | Other Heavy and Civil Engineering Construction | $33.5 |
Except, | Dredging and Surface Cleanup Activities ² | ² $20.0 |
Subsector 238—Specialty Trade Contractors
238110 | Poured Concrete Foundation and Structure Contractors | $14.0 |
238120 | Structural Steel and Precast Concrete Contractors | $14.0 |
238130 | Framing Contractors | $14.0 |
238140 | Masonry Contractors | $14.0 |
238150 | Glass and Glazing Contractors | $14.0 |
238160 | Roofing Contractors | $14.0 |
238170 | Siding Contractors | $14.0 |
238190 | Other Foundation, Structure, and Building Exterior Contractors | $14.0 |
238210 | Electrical Contractors and Other Wiring Installation Contractors | $14.0 |
238220 | Plumbing, Heating, and Air-Conditioning Contractors | $14.0 |
238290 | Other Building Equipment Contractors | $14.0 |
238310 | Drywall and Insulation Contractors | $14.0 |
238320 | Painting and Wall Covering Contractors | $14.0 |
238330 | Flooring Contractors | $14.0 |
238340 | Tile and Terrazzo Contractors | $14.0 |
238350 | Finish Carpentry Contractors | $14.0 |
238390 | Other Building Finishing Contractors | $14.0 |
238910 | Site Preparation Contractors | $14.0 |
238990 | All Other Specialty Trade Contractors | $14.0 |
Except, | Building and Property Specialty Trade Services ¹³ | ¹³ $14.0 |
* * * * * * *
Sector 44-45—Retail Trade
(Not applicable to Government procurement of supplies. The nonmanufacturer size standard of 500 employees shall be used for purposes of Government procurement of supplies.)
Subsector 441—Motor Vehicle and Parts Dealers
441110 | New Car Dealers | $29.0 |
441120 | Used Car Dealers | $23.0 |
441210 | Recreational Vehicle Dealers | $7.0 |
441221 | Motorcycle, ATV, and Personal Watercraft Dealers | $7.0 |
441222 | Boat Dealers | $7.0 |
441229 | All Other Motor Vehicle Dealers | $7.0 |
Except, | Aircraft Dealers, Retail | $10.0 |
441310 | Automotive Parts and Accessories Stores | $7.0 |
441320 | Tire Dealers | $7.0 |
Subsector 442—Furniture and Home Furnishings Stores
442110 | Furniture Stores | $7.0 |
442210 | Floor Covering Stores | $7.0 |
442291 | Window Treatment Stores | $7.0 |
442299 | All Other Home Furnishings Stores | $7.0 |
Subsector 443—Electronics and Appliance Stores
443111 | Household Appliance Stores | $9.0 |
443112 | Radio, Television and Other Electronics Stores | $9.0 |
443120 | Computer and Software Stores | $9.0 |
443130 | Camera and Photographic Supplies Stores | $7.0 |
Subsector 444—Building Material and Garden Equipment and Supplies Dealers
444110 | Home Centers | $7.0 |
444120 | Paint and Wallpaper Stores | $7.0 |
444130 | Hardware Stores | $7.0 |
444190 | Other Building Material Dealers | $7.0 |
444210 | Outdoor Power Equipment Stores | $7.0 |
444220 | Nursery and Garden Centers | $7.0 |
Subsector 445—Food and Beverage Stores
445110 | Supermarkets and Other Grocery (except Convenience) Stores | $27.0 |
445120 | Convenience Stores | $27.0 |
445210 | Meat Markets | $7.0 |
445220 | Fish and Seafood Markets | $7.0 |
445230 | Fruit and Vegetable Markets | $7.0 |
445291 | Baked Goods Stores | $7.0 |
445292 | Confectionery and Nut Stores | $7.0 |
445299 | All Other Specialty Food Stores | $7.0 |
445310 | Beer, Wine and Liquor Stores | $7.0 |
Subsector 446—Health and Personal Care Stores
446110 | Pharmacies and Drug Stores | $7.0 |
446120 | Cosmetics, Beauty Supplies and Perfume Stores | $7.0 |
446130 | Optical Goods Stores | $7.0 |
446191 | Food (Health) Supplement Stores | $7.0 |
446199 | All Other Health and Personal Care Stores | $7.0 |
Subsector 447—Gasoline Stations
447110 | Gasoline Stations with Convenience Stores | $27.0 |
447190 | Other Gasoline Stations | $9.0 |
Subsector 448—Clothing and Clothing Accessories Stores
448110 | Men's Clothing Stores | $9.0 |
448120 | Women's Clothing Stores | $9.0 |
448130 | Children's and Infants' Clothing Stores | $7.0 |
448140 | Family Clothing Stores | $9.0 |
448150 | Clothing Accessories Stores | $7.0 |
448190 | Other Clothing Stores | $7.0 |
448210 | Shoe Stores | $9.0 |
448310 | Jewelry Stores | $7.0 |
448320 | Luggage and Leather Goods Stores | $7.0 |
Subsector 451—Sporting Good, Hobby, Book and Music Stores
451110 | Sporting Goods Stores | $7.0 |
451120 | Hobby, Toy and Game Stores | $7.0 |
451130 | Sewing, Needlework and Piece Goods Stores | $7.0 |
451140 | Musical Instrument and Supplies Stores | $7.0 |
451211 | Book Stores | $7.0 |
451212 | News Dealers and Newsstands | $7.0 |
451220 | Prerecorded Tape, Compact Disc and Record Stores | $7.0 |
Subsector 452—General Merchandise Stores
452111 | Department Stores (except Discount Department Stores) | $27.0 |
452112 | Discount Department Stores | $27.0 |
452910 | Warehouse Clubs and Superstores | $27.0 |
452990 | All Other General Merchandise Stores | $11.0 |
Subsector 453—Miscellaneous Store Retailers
453110 | Florists | $7.0 |
453210 | Office Supplies and Stationery Stores | $7.0 |
453220 | Gift, Novelty and Souvenir Stores | $7.0 |
453310 | Used Merchandise Stores | $7.0 |
453910 | Pet and Pet Supplies Stores | $7.0 |
453920 | Art Dealers | $7.0 |
453930 | Manufactured (Mobile) Home Dealers | $13.0 |
453991 | Tobacco Stores | $7.0 |
453998 | All Other Miscellaneous Store Retailers (except Tobacco Stores) | $7.0 |
Subsector 454—Nonstore Retailers
454111 | Electronic Shopping | $25.0 |
454112 | Electronic Auctions | $25.0 |
454113 | Mail-Order Houses | $25.0 |
454210 | Vending Machine Operators | $7.0 |
454311 | Heating Oil Dealers | $12.5 |
454312 | Liquefied Petroleum Gas (Bottled Gas) Dealers | $7.0 |
454319 | Other Fuel Dealers | $7.0 |
454390 | Other Direct Selling Establishments | $7.0 |
Sector 48-49—Transportation and Warehousing
Subsector 481—Air Transportation
* * * * * * *
481211 | Nonscheduled Chartered Passenger Air Transportation |  | 1,500
Except, | Offshore Marine Air Transportation Services | $28.0 |
481212 | Nonscheduled Chartered Freight Air Transportation |  | 1,500
Except, | Offshore Marine Air Transportation Services | $28.0 |
481219 | Other Nonscheduled Air Transportation | $7.0 |
* * * * * * *
Subsector 484—Truck Transportation
484110 | General Freight Trucking, Local | $25.5 |
484121 | General Freight Trucking, Long-Distance, Truckload | $25.5 |
484122 | General Freight Trucking, Long-Distance, Less Than Truckload | $25.5 |
484210 | Used Household and Office Goods Moving | $25.5 |
484220 | Specialized Freight (except Used Goods) Trucking, Local | $25.5 |
484230 | Specialized Freight (except Used Goods) Trucking, Long-Distance | $25.5 |
Subsector 485—Transit and Ground Passenger Transportation
485111 | Mixed Mode Transit Systems | $7.0 |
485112 | Commuter Rail Systems | $7.0 |
485113 | Bus and Motor Vehicle Transit Systems | $7.0 |
485119 | Other Urban Transit Systems | $7.0 |
485210 | Interurban and Rural Bus Transportation | $7.0 |
485310 | Taxi Service | $7.0 |
485320 | Limousine Service | $7.0 |
485410 | School and Employee Bus Transportation | $7.0 |
485510 | Charter Bus Industry | $7.0 |
485991 | Special Needs Transportation | $7.0 |
485999 | All Other Transit and Ground Passenger Transportation | $7.0 |
Subsector 486—Pipeline Transportation
* * * * * * *
486210 | Pipeline Transportation of Natural Gas | $7.0 |
* * * * * * *
486990 | All Other Pipeline Transportation | $34.5 |
Subsector 487—Scenic and Sightseeing Transportation
487110 | Scenic and Sightseeing Transportation, Land | $7.0 |
487210 | Scenic and Sightseeing Transportation, Water | $7.0 |
487990 | Scenic and Sightseeing Transportation, Other | $7.0 |
Subsector 488—Support Activities for Transportation
488111 | Air Traffic Control | $7.0 |
488119 | Other Airport Operations | $7.0 |
488190 | Other Support Activities for Air Transportation | $7.0 |
488210 | Support Activities for Rail Transportation | $7.0 |
488310 | Port and Harbor Operations | $25.5 |
488320 | Marine Cargo Handling | $25.5 |
488330 | Navigational Services to Shipping | $7.0 |
488390 | Other Support Activities for Water Transportation | $7.0 |
488410 | Motor Vehicle Towing | $7.0 |
488490 | Other Support Activities for Road Transportation | $7.0 |
488510 | Freight Transportation Arrangement ¹⁰ | ¹⁰ $7.0 |
Except, | Non-Vessel Owning Common Carriers and Household Goods Forwarders | $25.5 |
488991 | Packing and Crating | $25.5 |
488999 | All Other Support Activities for Transportation | $7.0 |
Subsector 491—Postal Service
491110 | Postal Service | $7.0 |
Subsector 492—Couriers and Messengers
* * * * * * *
492210 | Local Messengers and Local Delivery | $25.5 |
Subsector 493—Warehousing and Storage
493110 | General Warehousing and Storage | $25.5 |
493120 | Refrigerated Warehousing and Storage | $25.5 |
493130 | Farm Product Warehousing and Storage | $25.5 |
493190 | Other Warehousing and Storage | $25.5 |
Sector 51—Information
Subsector 511—Publishing Industries (except Internet)
* * * * * * *
511210 | Software Publishers | $25.0 |
Subsector 512—Motion Picture and Sound Recording Industries
512110 | Motion Picture and Video Production | $29.5 |
512120 | Motion Picture and Video Distribution | $29.5 |
512131 | Motion Picture Theaters (except Drive-Ins) | $7.0 |
512132 | Drive-In Motion Picture Theaters | $7.0 |
512191 | Teleproduction and Other Postproduction Services | $29.5 |
512199 | Other Motion Picture and Video Industries | $7.0 |
512210 | Record Production | $7.0 |
* * * * * * *
512240 | Sound Recording Studios | $7.0 |
512290 | Other Sound Recording Industries | $7.0 |
Subsector 515—Broadcasting (except Internet)
515111 | Radio Networks | $7.0 |
515112 | Radio Stations | $7.0 |
515120 | Television Broadcasting | $14.0 |
515210 | Cable and Other Subscription Programming | $15.0 |
Subsector 517—Telecommunications
* * * * * * *
517410 | Satellite Telecommunications | $15.0 |
* * * * * * *
517919 | All Other Telecommunications | $25.0 |
Subsector 518—Data Processing, Hosting, and Related Services
518210 | Data Processing, Hosting, and Related Services | $25.0 |
Subsector 519—Other Information Services
519110 | News Syndicates | $7.0 |
519120 | Libraries and Archives | $7.0 |
* * * * * * *
519190 | All Other Information Services | $7.0 |
Sector 52—Finance and Insurance
Subsector 522—Credit Intermediation and Related Activities
522110 | Commercial Banking ⁸ | ⁸ $175 million in assets
522120 | Savings Institutions ⁸ | ⁸ $175 million in assets |
522130 | Credit Unions ⁸ | ⁸ $175 million in assets |
522190 | Other Depository Credit Intermediation ⁸ | ⁸ $175 million in assets |
522210 | Credit Card Issuing ⁸ | ⁸ $175 million in assets |
522220 | Sales Financing | $7.0 |
522291 | Consumer Lending | $7.0 |
522292 | Real Estate Credit | $7.0 |
522293 | International Trade Financing ⁸ | ⁸ $175 million in assets |
522294 | Secondary Market Financing | $7.0 |
522298 | All Other Non-Depository Credit Intermediation | $7.0 |
522310 | Mortgage and Nonmortgage Loan Brokers | $7.0 |
522320 | Financial Transactions Processing, Reserve, and Clearing House Activities | $7.0 |
522390 | Other Activities Related to Credit Intermediation | $7.0 |
Subsector 523—Securities, Commodity Contracts, and Other Financial Investments and Related Activities
523110 | Investment Banking and Securities Dealing | $7.0 |
523120 | Securities Brokerage | $7.0 |
523130 | Commodity Contracts Dealing | $7.0 |
523140 | Commodity Contracts Brokerage | $7.0 |
523210 | Securities and Commodity Exchanges | $7.0 |
523910 | Miscellaneous Intermediation | $7.0 |
523920 | Portfolio Management | $7.0 |
523930 | Investment Advice | $7.0 |
523991 | Trust, Fiduciary and Custody Activities | $7.0 |
523999 | Miscellaneous Financial Investment Activities | $7.0 |
Subsector 524—Insurance Carriers and Related Activities
524113 | Direct Life Insurance Carriers | $7.0 |
524114 | Direct Health and Medical Insurance Carriers | $7.0 |
* * * * * * *
524127 | Direct Title Insurance Carriers | $7.0 |
524128 | Other Direct Insurance (except Life, Health and Medical) Carriers | $7.0 |
524130 | Reinsurance Carriers | $7.0 |
524210 | Insurance Agencies and Brokerages | $7.0 |
524291 | Claims Adjusting | $7.0 |
524292 | Third Party Administration of Insurance and Pension Funds | $7.0 |
524298 | All Other Insurance Related Activities | $7.0 |
Subsector 525—Funds, Trusts and Other Financial Vehicles
525110 | Pension Funds | $7.0 |
525120 | Health and Welfare Funds | $7.0 |
525190 | Other Insurance Funds | $7.0 |
525910 | Open-End Investment Funds | $7.0 |
525920 | Trusts, Estates, and Agency Accounts | $7.0 |
525930 | Real Estate Investment Trusts | $7.0 |
525990 | Other Financial Vehicles | $7.0 |
Sector 53—Real Estate and Rental and Leasing
Subsector 531—Real Estate
531110 | Lessors of Residential Buildings and Dwellings | $7.0 |
531120 | Lessors of Nonresidential Buildings (except Miniwarehouses) | $7.0 |
531130 | Lessors of Miniwarehouses and Self Storage Units | $25.5 |
531190 | Lessors of Other Real Estate Property | $7.0 |
Except, | Leasing of Building Space to Federal Government by Owners ⁹ | ⁹ $20.5 |
531210 | Offices of Real Estate Agents and Brokers ¹⁰ | ¹⁰ $2.0 |
531311 | Residential Property Managers | $2.0 |
531312 | Nonresidential Property Managers | $2.0 |
531320 | Offices of Real Estate Appraisers | $2.0 |
531390 | Other Activities Related to Real Estate | $2.0 |
Subsector 532—Rental and Leasing Services
532111 | Passenger Car Rental | $25.5 |
532112 | Passenger Car Leasing | $25.5 |
532120 | Truck, Utility Trailer, and RV (Recreational Vehicle) Rental and Leasing | $25.5 |
532210 | Consumer Electronics and Appliances Rental | $7.0 |
532220 | Formal Wear and Costume Rental | $7.0 |
532230 | Video Tape and Disc Rental | $7.0 |
532291 | Home Health Equipment Rental | $7.0 |
532292 | Recreational Goods Rental | $7.0 |
532299 | All Other Consumer Goods Rental | $7.0 |
532310 | General Rental Centers | $7.0 |
532411 | Commercial Air, Rail, and Water Transportation Equipment Rental and Leasing | $7.0 |
532412 | Construction, Mining and Forestry Machinery and Equipment Rental and Leasing | $7.0 |
532420 | Office Machinery and Equipment Rental and Leasing | $25.0 |
532490 | Other Commercial and Industrial Machinery and Equipment Rental and Leasing | $7.0 |
Subsector 533—Lessors of Nonfinancial Intangible Assets (except Copyrighted Works)
533110 | Lessors of Nonfinancial Intangible Assets (except Copyrighted Works) | $7.0 |
Sector 54—Professional, Scientific and Technical Services
Subsector 541—Professional, Scientific and Technical Services
541110 | Offices of Lawyers | $7.0 |
541191 | Title Abstract and Settlement Offices | $7.0 |
541199 | All Other Legal Services | $7.0 |
541211 | Offices of Certified Public Accountants | $8.5 |
541213 | Tax Preparation Services | $7.0 |
541214 | Payroll Services | $8.5 |
541219 | Other Accounting Services | $8.5 |
541310 | Architectural Services | $4.5 |
541320 | Landscape Architectural Services | $7.0 |
541330 | Engineering Services | $4.5 |
Except, | Military and Aerospace Equipment and Military Weapons | $27.0 |
Except, | Contracts and Subcontracts for Engineering Services Awarded Under the National Energy Policy Act of 1992 | $27.0 |
Except, | Marine Engineering and Naval Architecture | $18.5 |
541340 | Drafting Services | $7.0 |
Except, | Map Drafting | $4.5 |
541350 | Building Inspection Services | $7.0 |
541360 | Geophysical Surveying and Mapping Services | $4.5 |
541370 | Surveying and Mapping (except Geophysical) Services | $4.5 |
541380 | Testing Laboratories | $12.0 |
541410 | Interior Design Services | $7.0 |
541420 | Industrial Design Services | $7.0 |
541430 | Graphic Design Services | $7.0 |
541490 | Other Specialized Design Services | $7.0 |
541511 | Custom Computer Programming Services | $25.0 |
541512 | Computer Systems Design Services | $25.0 |
541513 | Computer Facilities Management Services | $25.0 |
541519 | Other Computer Related Services | $25.0 |
Except, | Information Technology Value Added Resellers ¹⁸ |  | ¹⁸ 150
541611 | Administrative Management and General Management Consulting Services | $7.0 |
541612 | Human Resources Consulting Services | $7.0 |
541613 | Marketing Consulting Services | $7.0 |
541614 | Process, Physical Distribution and Logistics Consulting Services | $7.0 |
541618 | Other Management Consulting Services | $7.0 |
541620 | Environmental Consulting Services | $7.0 |
541690 | Other Scientific and Technical Consulting Services | $7.0 |
* * * * * * *
541720 | Research and Development in the Social Sciences and Humanities | $7.0 |
541810 | Advertising Agencies ¹⁰ | ¹⁰ $7.0 |
541820 | Public Relations Agencies | $7.0 |
541830 | Media Buying Agencies | $7.0 |
541840 | Media Representatives | $7.0 |
541850 | Display Advertising | $7.0 |
541860 | Direct Mail Advertising | $7.0 |
541870 | Advertising Material Distribution Services | $7.0 |
541890 | Other Services Related to Advertising | $7.0 |
541910 | Marketing Research and Public Opinion Polling | $7.0 |
541921 | Photography Studios, Portrait | $7.0 |
541922 | Commercial Photography | $7.0 |
541930 | Translation and Interpretation Services | $7.0 |
541940 | Veterinary Services | $7.0 |
541990 | All Other Professional, Scientific and Technical Services | $7.0 |
Sector 55—Management of Companies and Enterprises
Subsector 551—Management of Companies and Enterprises
551111 | Offices of Bank Holding Companies | $7.0 |
551112 | Offices of Other Holding Companies | $7.0 |
Sector 56—Administrative and Support, Waste Management and Remediation Services
Subsector 561—Administrative and Support Services
561110 | Office Administrative Services | $7.0 |
561210 | Facilities Support Services ¹² | ¹² $35.5 |
561311 | Employment Placement Agencies | $7.0 |
561312 | Executive Search Services | $7.0 |
561320 | Temporary Help Services | $13.5 |
561330 | Professional Employer Organizations | $13.5 |
561410 | Document Preparation Services | $7.0 |
561421 | Telephone Answering Services | $7.0 |
561422 | Telemarketing Bureaus and Other Contact Centers | $7.0 |
561431 | Private Mail Centers | $7.0 |
561439 | Other Business Service Centers (including Copy Shops) | $7.0 |
561440 | Collection Agencies | $7.0 |
561450 | Credit Bureaus | $7.0 |
561491 | Repossession Services | $7.0 |
561492 | Court Reporting and Stenotype Services | $7.0 |
561499 | All Other Business Support Services | $7.0 |
561510 | Travel Agencies ¹⁰ | ¹⁰ $3.5 |
561520 | Tour Operators ¹⁰ | ¹⁰ $7.0 |
561591 | Convention and Visitors Bureaus | $7.0 |
561599 | All Other Travel Arrangement and Reservation Services | $7.0 |
561611 | Investigation Services | $12.5 |
561612 | Security Guards and Patrol Services | $18.5 |
561613 | Armored Car Services | $12.5 |
561621 | Security Systems Services (except Locksmiths) | $12.5 |
561622 | Locksmiths | $7.0 |
561710 | Exterminating and Pest Control Services | $7.0 |
561720 | Janitorial Services | $16.5 |
561730 | Landscaping Services | $7.0 |
561740 | Carpet and Upholstery Cleaning Services | $4.5 |
561790 | Other Services to Buildings and Dwellings | $7.0 |
561910 | Packaging and Labeling Services | $7.0 |
561920 | Convention and Trade Show Organizers ¹⁰ | ¹⁰ $7.0 |
561990 | All Other Support Services | $7.0 |
Subsector 562—Waste Management and Remediation Services
562111 | Solid Waste Collection | $12.5 |
562112 | Hazardous Waste Collection | $12.5 |
562119 | Other Waste Collection | $12.5 |
562211 | Hazardous Waste Treatment and Disposal | $12.5 |
562212 | Solid Waste Landfill | $12.5 |
562213 | Solid Waste Combustors and Incinerators | $12.5 |
562219 | Other Nonhazardous Waste Treatment and Disposal | $12.5 |
562910 | Remediation Services | $14.0 |
Except, | Environmental Remediation Services ¹⁴ |  | ¹⁴ 500
562920 | Materials Recovery Facilities | $12.5 |
562991 | Septic Tank and Related Services | $7.0 |
562998 | All Other Miscellaneous Waste Management Services | $7.0 |
Sector 61—Educational Services
Subsector 611—Educational Services
611110 | Elementary and Secondary Schools | $7.0 |
611210 | Junior Colleges | $7.0 |
611310 | Colleges, Universities and Professional Schools | $7.0 |
611410 | Business and Secretarial Schools | $7.0 |
611420 | Computer Training | $7.0 |
611430 | Professional and Management Development Training | $7.0 |
611511 | Cosmetology and Barber Schools | $7.0 |
611512 | Flight Training | $25.5 |
611513 | Apprenticeship Training | $7.0 |
611519 | Other Technical and Trade Schools | $7.0 |
Except, | Job Corps Centers ¹⁶ | ¹⁶ $35.5 |
611610 | Fine Arts Schools | $7.0 |
611620 | Sports and Recreation Instruction | $7.0 |
611630 | Language Schools | $7.0 |
611691 | Exam Preparation and Tutoring | $7.0 |
611692 | Automobile Driving Schools | $7.0 |
611699 | All Other Miscellaneous Schools and Instruction | $7.0 |
611710 | Educational Support Services | $7.0 |
Sector 62—Health Care and Social Assistance
Subsector 621—Ambulatory Health Care Services
621111 | Offices of Physicians (except Mental Health Specialists) | $10.0 |
621112 | Offices of Physicians, Mental Health Specialists | $10.0 |
621210 | Offices of Dentists | $7.0 |
621310 | Offices of Chiropractors | $7.0 |
621320 | Offices of Optometrists | $7.0 |
621330 | Offices of Mental Health Practitioners (except Physicians) | $7.0 |
621340 | Offices of Physical, Occupational and Speech Therapists and Audiologists | $7.0 |
621391 | Offices of Podiatrists | $7.0 |
621399 | Offices of All Other Miscellaneous Health Practitioners | $7.0 |
621410 | Family Planning Centers | $10.0 |
621420 | Outpatient Mental Health and Substance Abuse Centers | $10.0 |
621491 | HMO Medical Centers | $10.0 |
621492 | Kidney Dialysis Centers | $34.5 |
621493 | Freestanding Ambulatory Surgical and Emergency Centers | $10.0 |
621498 | All Other Outpatient Care Centers | $10.0 |
621511 | Medical Laboratories | $13.5 |
621512 | Diagnostic Imaging Centers | $13.5 |
621610 | Home Health Care Services | $13.5 |
621910 | Ambulance Services | $7.0 |
621991 | Blood and Organ Banks | $10.0 |
621999 | All Other Miscellaneous Ambulatory Health Care Services | $10.0 |
Subsector 622—Hospitals
622110 | General Medical and Surgical Hospitals | $34.5 |
622210 | Psychiatric and Substance Abuse Hospitals | $34.5 |
622310 | Specialty (except Psychiatric and Substance Abuse) Hospitals | $34.5 |
Subsector 623—Nursing and Residential Care Facilities
623110 | Nursing Care Facilities | $13.5 |
623210 | Residential Mental Retardation Facilities | $10.0 |
623220 | Residential Mental Health and Substance Abuse Facilities | $7.0 |
623311 | Continuing Care Retirement Communities | $13.5 |
623312 | Homes for the Elderly | $7.0 |
623990 | Other Residential Care Facilities | $7.0 |
Subsector 624—Social Assistance
624110 | Child and Youth Services | $7.0 |
624120 | Services for the Elderly and Persons with Disabilities | $7.0 |
624190 | Other Individual and Family Services | $7.0 |
624210 | Community Food Services | $7.0 |
624221 | Temporary Shelters | $7.0 |
624229 | Other Community Housing Services | $7.0 |
624230 | Emergency and Other Relief Services | $7.0 |
624310 | Vocational Rehabilitation Services | $7.0 |
624410 | Child Day Care Services | $7.0 |
Sector 71—Arts, Entertainment and Recreation
Subsector 711—Performing Arts, Spectator Sports and Related Industries
711110 | Theater Companies and Dinner Theaters | $7.0 |
711120 | Dance Companies | $7.0 |
711130 | Musical Groups and Artists | $7.0 |
711190 | Other Performing Arts Companies | $7.0 |
711211 | Sports Teams and Clubs | $7.0 |
711212 | Race Tracks | $7.0 |
711219 | Other Spectator Sports | $7.0 |
711310 | Promoters of Performing Arts, Sports and Similar Events with Facilities | $7.0 |
711320 | Promoters of Performing Arts, Sports and Similar Events without Facilities | $7.0 |
711410 | Agents and Managers for Artists, Athletes, Entertainers and Other Public Figures | $7.0 |
711510 | Independent Artists, Writers, and Performers | $7.0 |
Subsector 712—Museums, Historical Sites and Similar Institutions
712110 | Museums | $7.0 |
712120 | Historical Sites | $7.0 |
712130 | Zoos and Botanical Gardens | $7.0 |
712190 | Nature Parks and Other Similar Institutions | $7.0 |
Subsector 713—Amusement, Gambling and Recreation Industries
713110 | Amusement and Theme Parks | $7.0 |
713120 | Amusement Arcades | $7.0 |
713210 | Casinos (except Casino Hotels) | $7.0 |
713290 | Other Gambling Industries | $7.0 |
713910 | Golf Courses and Country Clubs | $7.0 |
713920 | Skiing Facilities | $7.0 |
713930 | Marinas | $7.0 |
713940 | Fitness and Recreational Sports Centers | $7.0 |
713950 | Bowling Centers | $7.0 |
713990 | All Other Amusement and Recreation Industries | $7.0 |
Sector 72—Accommodation and Food Services
Subsector 721—Accommodation
721110 | Hotels (except Casino Hotels) and Motels | $7.0 |
721120 | Casino Hotels | $7.0 |
721191 | Bed and Breakfast Inns | $7.0 |
721199 | All Other Traveler Accommodation | $7.0 |
721211 | RV (Recreational Vehicle) Parks and Campgrounds | $7.0 |
721214 | Recreational and Vacation Camps (except Campgrounds) | $7.0 |
721310 | Rooming and Boarding Houses | $7.0 |
Subsector 722—Food Services and Drinking Places
722110 | Full-Service Restaurants | $7.0 |
722211 | Limited-Service Restaurants | $7.0 |
722212 | Cafeterias, Grill Buffets, and Buffets | $7.0 |
722213 | Snack and Nonalcoholic Beverage Bars | $7.0 |
722310 | Food Service Contractors | $20.5 |
722320 | Caterers | $7.0 |
722330 | Mobile Food Services | $7.0 |
722410 | Drinking Places (Alcoholic Beverages) | $7.0 |
Sector 81—Other Services (Except Public Administration)
Subsector 811—Repair and Maintenance
811111 | General Automotive Repair | $7.0 |
811112 | Automotive Exhaust System Repair | $7.0 |
811113 | Automotive Transmission Repair | $7.0 |
811118 | Other Automotive Mechanical and Electrical Repair and Maintenance | $7.0 |
811121 | Automotive Body, Paint and Interior Repair and Maintenance | $7.0 |
811122 | Automotive Glass Replacement Shops | $7.0 |
811191 | Automotive Oil Change and Lubrication Shops | $7.0 |
811192 | Car Washes | $7.0 |
811198 | All Other Automotive Repair and Maintenance | $7.0 |
811211 | Consumer Electronics Repair and Maintenance | $7.0 |
811212 | Computer and Office Machine Repair and Maintenance | $25.0 |
811213 | Communication Equipment Repair and Maintenance | $7.0 |
811219 | Other Electronic and Precision Equipment Repair and Maintenance | $7.0 |
811310 | Commercial and Industrial Machinery and Equipment (except Automotive and Electronic) Repair and Maintenance | $7.0 |
811411 | Home and Garden Equipment Repair and Maintenance | $7.0 |
811412 | Appliance Repair and Maintenance | $7.0 |
811420 | Reupholstery and Furniture Repair | $7.0 |
811430 | Footwear and Leather Goods Repair | $7.0 |
811490 | Other Personal and Household Goods Repair and Maintenance | $7.0 |
Subsector 812—Personal and Laundry Services
812111 | Barber Shops | $7.0 |
812112 | Beauty Salons | $7.0 |
812113 | Nail Salons | $7.0 |
812191 | Diet and Weight Reducing Centers | $7.0 |
812199 | Other Personal Care Services | $7.0 |
812210 | Funeral Homes and Funeral Services | $7.0 |
812220 | Cemeteries and Crematories | $7.0 |
812310 | Coin-Operated Laundries and Drycleaners | $7.0 |
812320 | Drycleaning and Laundry Services (except Coin-Operated) | $4.5 |
812331 | Linen Supply | $14.0 |
812332 | Industrial Launderers | $14.0 |
812910 | Pet Care (except Veterinary) Services | $7.0 |
812921 | Photo Finishing Laboratories (except One-Hour) | $7.0 |
812922 | One-Hour Photo Finishing | $7.0 |
812930 | Parking Lots and Garages | $7.0 |
812990 | All Other Personal Services | $7.0 |
Subsector 813—Religious, Grantmaking, Civic, Professional and Similar Organizations
813110 | Religious Organizations | $7.0 |
813211 | Grantmaking Foundations | $7.0 |
813212 | Voluntary Health Organizations | $7.0 |
813219 | Other Grantmaking and Giving Services | $7.0 |
813311 | Human Rights Organizations | $7.0 |
813312 | Environment, Conservation and Wildlife Organizations | $7.0 |
813319 | Other Social Advocacy Organizations | $7.0 |
813410 | Civic and Social Organizations | $7.0 |
813910 | Business Associations | $7.0 |
813920 | Professional Organizations | $7.0 |
813930 | Labor Unions and Similar Labor Organizations | $7.0 |
813940 | Political Organizations | $7.0 |
813990 | Other Similar Organizations (except Business, Professional, Labor, and Political Organizations) | $7.0 |

* * * * *

Footnotes

* * * * *

2. NAICS code 237990—Dredging: To be considered small for purposes of Government procurement, a firm must perform at least 40 percent of the volume dredged with its own equipment or equipment owned by another small dredging concern.

* * * * *

8. NAICS Codes 522110, 522120, 522130, 522190, 522210 and 522293—A financial institution's assets are determined by averaging the assets reported on its four quarterly financial statements for the preceding year. “Assets” for the purposes of this size standard means the assets defined according to the Federal Financial Institutions Examination Council 034 call report form.

9. NAICS code 531190—Leasing of building space to the Federal Government by Owners: For Government procurement, a size standard of $20.5 million in gross receipts applies to the owners of building space leased to the Federal Government. The standard does not apply to an agent.

10. NAICS codes 488510 (part), 531210, 541810, 561510, 561520 and 561920—As measured by total revenues, but excluding funds received in trust for an unaffiliated third party, such as bookings or sales subject to commissions. The commissions received are included as revenue.

* * * * *

12. NAICS 561210—Facilities Support Services:

(a) If one or more activities of Facilities Support Services as defined in paragraph (b) (below in this footnote) can be identified with a specific industry and that industry accounts for 50% or more of the value of an entire procurement, then the proper classification of the procurement is that of the specific industry, not Facilities Support Services.

(b) “Facilities Support Services” requires the performance of three or more separate activities in the areas of services or specialty trade contractors industries. If services are performed, these service activities must each be in a separate NAICS industry. If the procurement requires the use of specialty trade contractors (plumbing, painting, plastering, carpentry, etc.), all such specialty trade contractors activities are considered a single activity and classified as “Building and Property Specialty Trade Services.” Since “Building and Property Specialty Trade Services” is only one activity, two additional activities of separate NAICS industries are required for a procurement to be classified as “Facilities Support Services.”

13. NAICS code 238990—Building and Property Specialty Trade Services: If a procurement requires the use of multiple specialty trade contractors (i.e., plumbing, painting, plastering, carpentry, etc.), and no specialty trade accounts for 50% or more of the value of the procurement, all such specialty trade contractors activities are considered a single activity and classified as Building and Property Specialty Trade Services.

14. NAICS 562910—Environmental Remediation Services:

(a) For SBA assistance as a small business concern in the industry of Environmental Remediation Services, other than for Government procurement, a concern must be engaged primarily in furnishing a range of services for the remediation of a contaminated environment to an acceptable condition including, but not limited to, preliminary assessment, site inspection, testing, remedial investigation, feasibility studies, remedial design, containment, remedial action, removal of contaminated materials, storage of contaminated materials and security and site closeouts. If one of such activities accounts for 50 percent or more of a concern's total revenues, employees, or other related factors, the concern's primary industry is that of the particular industry and not the Environmental Remediation Services Industry.

(b) For purposes of classifying a Government procurement as Environmental Remediation Services, the general purpose of the procurement must be to restore or directly support the restoration of a contaminated environment (such as preliminary assessment, site inspection, testing, remedial investigation, feasibility studies, remedial design, remediation services, containment, removal of contaminated materials or security and site closeouts), although the general purpose of the procurement need not necessarily include remedial actions. Also, the procurement must be composed of activities in three or more separate industries with separate NAICS codes or, in some instances (e.g., engineering), smaller sub-components of NAICS codes with separate and distinct size standards. These activities may include, but are not limited to, separate activities in industries such as: Heavy Construction; Special Trade Contractors; Engineering Services; Architectural Services; Management Consulting Services; Hazardous and Other Waster Collection; Remediation Services; Testing Laboratories; and Research and Development in the Physical, Engineering, and Life Sciences. If any activity in the procurement can be identified with a separate NAICS code, or component of a code with a separate distinct size standard, and that industry accounts for 50 percent or more of the value of the entire procurement, then the proper size standard is the one for that particular industry, and not the Environmental Remediation Service size standard.

15. Subsector 483—Water Transportation—Offshore Marine Services: The applicable size standard shall be $28.0 million for firms furnishing specific transportation services to concerns engaged in offshore oil and/or natural gas exploration, drilling production, or marine research; such services encompass passenger and freight transportation, anchor handling, and related logistical services to and from the work site or at sea.

16. NAICS code 611519—Job Corps Centers. For classifying a Federal procurement, the purpose of the solicitation must be for the management and operation of a U.S. Department of Labor Job Corps Center. The activities involved include admissions activities, life skills training, educational activities, comprehensive career preparation activities, career development activities, career transition activities, as well as the management and support functions and services needed to operate and maintain the facility. For SBA assistance as a small business concern, other than for Federal Government procurements, a concern must be primarily engaged in providing the services to operate and maintain Federal Job Corps Centers.

17. NAICS code 115310—Support Activities for Forestry—Forest Fire Suppression and Fuels Management Services are two components of Support Activities for Forestry. Forest Fire Suppression includes establishments which provide services to fight forest fires. These firms usually have fire-fighting crews and equipment. Fuels Management Services firms provide services to clear land of hazardous materials that would fuel forest fires. The treatments used by these firms may include prescribed fire, mechanical removal, establishing fuel breaks, thinning, pruning, and piling.

18. NAICS code 541519—An Information Technology Value Added Reseller provides a total solution to information technology acquisitions by providing multi-vendor hardware and software along with significant services. Significant value added services consist of, but are not limited to, configuration consulting and design, systems integration, installation of multi-vendor computer equipment, customization of hardware or software, training, product technical support, maintenance, and end user support. For purposes of Government procurement, an information technology procurement classified under this industry category must consist of at least 15% and not more than 50% of value added services as measured by the total price less the cost of information technology hardware, computer software, and profit. If the contract consists of less than 15% of value added services, then it must be classified under a NAICS manufacturing industry. If the contract consists of more than 50% of value added services, then it must be classified under the NAICS industry that best describes the predominate service of the procurement. To qualify as an Information Technology Value Added Reseller for purposes of SBA assistance, other than for Government procurement, a concern must be primarily engaged in providing information technology equipment and computer software and provide value added services which account for at least 15% of its receipts but not more than 50% of its receipts.

* * * * *

3. Amend § 121.301 by revising paragraphs (a), (b)(2), and (d)(1) to read as follows:

§ 121.301 What size standards are applicable to financial assistance programs?

(a) For Business Loans and Disaster Loans (other than physical disaster loans), an applicant business concern must satisfy two criteria:

(1) The size of the applicant alone (without affiliates) must not exceed the size standard designated for the industry in which the applicant is primarily engaged; and

(2) The size of the applicant combined with its affiliates must not exceed the size standard designated for either the primary industry of the applicant alone or the primary industry of the applicant and its affiliates, which ever is higher. These size standards are set forth in § 121.201.

(b) * * *

(2) Including its affiliates, tangible net worth not in excess of $8.5 million, and average net income after Federal income taxes (excluding any carry-over losses) for the preceding two completed fiscal years not in excess of $3.0 million. If the applicant is not required by law to pay Federal income taxes at the enterprise level, but is required to pass income through to its shareholders, partners, beneficiaries, or other equitable owners, the applicant's “net income after Federal income taxes” will be its net income reduced by an amount computed as follows:

* * * * *

(d) * * *

(1) Any construction (general or special trade) concern or concern performing a contract for services is small if, together with its affiliates, its average annual receipts do not exceed $7.0 million, except as provided in § 121.301(d)(3).

* * * * *

4. Amend § 121.302 by revising paragraph (c) to read as follows:

§ 121.302 When does SBA determine the size status of an applicant?

* * * * *

(c) For disaster loan assistance (other than physical disaster loans), size status is determined as of the date the disaster commenced, as set forth in the Disaster Declaration. For economic injury disaster loan assistance under disaster declarations for Hurricanes Katrina, Rita, and Wilma, size status is determined as of the date SBA accepts the application for processing, and for applications submitted before December 6, 2005, whether denied because of size status or pending, such applications shall be deemed resubmitted on December 6, 2005. For pre-disaster mitigation loans, size status is determined as of the date SBA accepts a complete Pre-Disaster Mitigation Small Business Loan Application for processing. Refer to § 123.408 of this chapter to find out what SBA considers to be a complete Pre-Disaster Mitigation Small Business Loan Application.

* * * * *

5. Amend § 121.502 by revising paragraph (a)(2) to read as follows:

§ 121.502 What size standards are applicable to programs for sales and leases of Government property?

(a) * * *

(2) A concern not primarily engaged in manufacturing is small for sales or leases of Government property if it has annual receipts not exceeding $7.0 million.

* * * * *

6. Amend § 121.512 by revising paragraph (b) to read as follows:

§ 121.512 What is the size standard for stockpile purchases?

* * * * *

(b) Its annual receipts, together with its affiliates, do not exceed $57.5 million.

PART 123—DISASTER LOAN PROGRAM

7. The authority citation of part 123 continues to read as follows:

Authority: 15 U.S.C. 634(b)(6), 636(b), 636(c); Pub. L. 102-395, 106 Stat. 1828, 1864; and Pub. L. 103-75, 107 Stat. 739; and Pub. L. 106-50, 113 Stat. 245.

8. Amend § 123.300 by revising paragraph (b) to read as follow:

§ 123.300 Is my business eligible to apply for an economic injury disaster loan?

* * * * *

(b) Economic injury disaster loans are available only if you were a small business (as defined in part 121 of this chapter) when the declared disaster commenced (except disaster declarations for Hurricanes Katrina, Rita and Wilma, for which size status is determined as of the date SBA accepts the application for processing, and for applications submitted before December 6, 2005, whether denied because of size status or pending, such applications shall be deemed resubmitted on December 6, 2005), you and your affiliates and principle owners (20% or more ownership interest) have used all reasonably available funds, and you are unable to obtain credit elsewhere (see § 123.104).

* * * * *

Dated: July 3, 2008.
Jovita Carranza,
Acting Administrator.

[FR Doc. E8-16148 Filed 7-17-08; 8:45 am]

BILLING CODE 8025-01-P